DEPARTMENT OF THE TREASURY

Office of Foreign Assets Control

Notice of OFAC Sanctions Action

AGENCY: Office of Foreign Assets Control, Treasury.

ACTION: Notice

SUMMARY: The U.S. Department of the Treasury's Office of Foreign Assets Control (OFAC) is publishing the names of persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing updates to the identifying information of three persons currently included on the SDN List.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

A. On July 20, 2023, OFAC determined that the property and interests in property subject to U.S. jurisdiction of the following persons are blocked under the relevant sanctions authority listed below.

Individuals:

1. IVANOVA, Tatyana Grigoryevna, Russia; Kyrgyzstan; DOB 02 May 1975; nationality Russia; Gender Female (individual) [RUSSIA-EO14024].

Designated pursuant to sections 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the electronics sector of the Russian Federation economy.

2. CVETIC, Ivan, Serbia; DOB 29 Apr 1976; POB Serbia; nationality Serbia; Gender Male; Passport 014236438 (Serbia) expires 20 May 2029 (individual) [RUSSIA-EO14024] (Linked To: LIMITED LIABILITY COMPANY AK MICROTECH).

Designated pursuant to section 1(a)(vi)(B) of E.O. 14024 for having materially assisted, sponsored, or provided financial, material, or technological support for, or goods or services to or in support of Limited Liability Company AK Microtech, a person whose property and interests in property are blocked pursuant to E.O. 14024.

Entities:

1. SCIENTIFIC PRODUCTION COMPANY OPTOLINK (a.k.a. LIMITED LIABILITY COMPANY RESEARCH AND PRODUCTION COMPANY OPTOLINK; a.k.a. LLC RPC OPTOLINK; a.k.a. NPK OPTOLINK LLC; a.k.a. OOO NPK OPTOLINK; a.k.a. OPTOLINK RPC LLC; a.k.a. SPC OPTOLINK), 6A Sosnovaya Alley, Building 5, Zelenograd, Moscow 124489, Russia; Pr-d 4806 d. 5, g. Zelenograd, Moscow 124498, Russia; Saratov, Russia; Arzamas, Russia; Organization Established Date 18 Jul 2001; Tax ID No. 7735105059 (Russia); Registration Number 1027700040719 (Russia) [RUSSIA-EO14024].

Designated pursuant to section 1(a)(i) of E.O. 14024 for operating or having operated in the technology sector of the Russian Federation economy, and pursuant to section 1(a)(i) of E.O. 14024 for operating or having operated in the electronics sector of the Russian Federation economy.

2. AK SYSTEMS (a.k.a. AK SISTEMS), ul. Gorbunova d. 2, str. 3, et 5 pom. II kom 7, Moscow 121596, Russia; Tax ID No. 7731342210 (Russia); Registration Number 1177746022398 (Russia) [RUSSIA-EO14024].

Designated pursuant to section 1(a)(i) of E.O. 14024 for operating or having operated in the electronics sector of the Russian Federation economy.

3. JOINT STOCK COMPANY COMPEL (a.k.a. “AO KOMPEL”), ul. Novokhokhlovskaya d. 23, str. 1, Moscow 109052, Russia; Pr-kt Volgogradskii d. 28A, pom I et 3 kom 6, Moscow 109316, Russia; Bolshoi pr-t V.O., 18, Saint Petersburg, Russia; K. Marksa pr-t, 57, Novosibirsk, Russia; Tax ID No. 7713005406 (Russia); Registration Number 1027700032161 (Russia) [RUSSIA-EO14024].

Designated pursuant to section 1(a)(i) of E.O. 14024 for operating or having operated in the electronics sector of the Russian Federation economy.

4. KOMPONENTA AO (a.k.a. KOMPONENTA INC), ul. Vyborgskaya d. 16, str. 1, pom. X kom 2, Moscow 125212, Russia; Tax ID No. 7743669411 (Russia); Registration Number 1077763331436 (Russia) [RUSSIA-EO14024].

Designated pursuant to section 1(a)(i) of E.O. 14024 for operating or having operated in the electronics sector of the Russian Federation economy.

5. LIMITED LIABILITY COMPANY FOREPOST TRADING (a.k.a. FOREPOST TRADING LLC), ul. Generala Antonova d. 3A, Moscow 117342, Russia; Tax ID No. 7719667861 (Russia); Registration Number 1087746148962 (Russia) [RUSSIA-EO14024].

Designated pursuant to section 1(a)(i) of E.O. 14024 for operating or having operated in the electronics sector of the Russian Federation economy.

6. LLC ALTRABETA, Per. 1-I Verkhnii d. 6, lit. A, office 211, Saint Petersburg 194292, Russia; Tax ID No. 7802646313 (Russia); Registration Number 1177847399498 (Russia) [RUSSIA-EO14024].

Designated pursuant to section 1(a)(i) of E.O. 14024 for operating or having operated in the electronics sector of the Russian Federation economy.

7. LLC IQ COMPONENTS (a.k.a. AI KYU KOMPONENTS), ul. Salova d. 45, lit. Ya, pomeshch. 1N komnata 35, Saint Petersburg 192102, Russia; Tax ID No. 7816691806 (Russia); Registration Number 1197847052963 (Russia) [RUSSIA-EO14024].

Designated pursuant to section 1(a)(i) of E.O. 14024 for operating or having operated in the electronics sector of the Russian Federation economy.

8. LLC ONELEK (a.k.a. LLC ONELEC), Moskovskiy pr, 19 korpus 10, pomeshchenie 2, Cheboksary, Russia; ploshchad Zhuravleva, d. 10, str 3, ofis 33, Moscow, Russia; ul. Bolshaya Tatarskaya d. 21, str. 8, komnata 213, Moscow 115184, Russia; Tax ID No. 7709988048 (Russia); Registration Number 1177746113709 (Russia) [RUSSIA-EO14024].

Designated pursuant to section 1(a)(i) of E.O. 14024 for operating or having operated in the electronics sector of the Russian Federation economy.

9. LLC SPETSELSERVIS (a.k.a. SPECELSERVIS), ul Kakhovka, d. 20, str. 2 k. 56, Moscow 117461, Russia; ul. Elektrozavodskaya, d. 24, of. A214, A215, Moscow 107023, Russia; ul. Sushchevskaya d. 21, pod. 2, Moscow 127055, Russia; Tax ID No. 7727191914 (Russia); Registration Number 1037739375024 (Russia) [RUSSIA-EO14024].

Designated pursuant to section 1(a)(i) of E.O. 14024 for operating or having operated in the electronics sector of the Russian Federation economy.

10. NPF-RADIOTEKHKOMPLEKT AO (a.k.a. ZAKRYTOE AKTSIONERNOE OBSHCHESTVO NPF RADIOTEKHKOMPLEKT; a.k.a. ZAO NPF RADIOTEKHKOMPLEKT), ul. 1-ya Khutorskaya d. 14, kv. 48, Moscow 127287, Russia; Tax ID No. 7714741462 (Russia); Registration Number 1087746661925 (Russia) [RUSSIA-EO14024].

Designated pursuant to section 1(a)(i) of E.O. 14024 for operating or having operated in the electronics sector of the Russian Federation economy.

11. SATURN EK OOO, Pr-d 6-I Predportovyi d. 4, lit. S, pomeshch. 42, Saint Petersburg 196240, Russia; Tax ID No. 7806525158 (Russia); Registration Number 1147847154949 (Russia) [RUSSIA-EO14024].

Designated pursuant to section 1(a)(i) of E.O. 14024 for operating or having operated in the electronics sector of the Russian Federation economy.

12. STAUT COMPANY LIMITED (a.k.a. STAUT CO LTD; a.k.a. STAUT DESIGN CENTER), Pr-kt Obukhovskoi Oborony d. 123A, pom. 20, Saint Petersburg 192029, Russia; ul. Moiseenko d. 41, lit. B, pomeshch. #4, floor 2, office 1, Saint Petersburg 191144, Russia; Tax ID No. 7811401214 (Russia); Registration Number 1089847105259 (Russia) [RUSSIA-EO14024].

Designated pursuant to section 1(a)(i) of E.O. 14024 for operating or having operated in the electronics sector of the Russian Federation economy.

13. JOINT STOCK COMPANY SCIENCE RESEARCH INSTITUTE FOR PRECISE INSTRUMENTS (a.k.a. AKTSIONERNOE OBSHCHESTVO NAUCHNO ISSLEDOVATELSKI INSTITUT TOCHNYKH PRIBOROV; a.k.a. JOINT STOCK COMPANY RESEARCH INSTITUTE OF PRECISION INSTRUMENTS; a.k.a. “AO NII TP”; a.k.a. “JSC RIPI”), ul. Dekabristov, Vl 51, Moscow 127490, Russia; Target Type State-Owned Enterprise; Tax ID No. 7715784155 (Russia); Government Gazette Number 11482462 (Russia); Registration Number 1097746735481 (Russia) [RUSSIA-EO14024].

Designated pursuant to section 1(a)(i) of E.O. 14024 for operating or having operated in the aerospace sector of the Russian Federation economy.

14. JOINT STOCK COMPANY SPECIAL RESEARCH BUREAU OF MOSCOW POWER ENGINEERING INSTITUTE (a.k.a. AKTSIONERNOE OBSHCHESTVO OSOBOE KONSTRUKTORSKOE BYURO MOSKOVSKOGO ENERGETICHESKOGO INSTITUTA; a.k.a. “AO OKB MEI”; a.k.a. “JSC OKB MEI”), ul. Krasnokazarmennaya D. 14, Moscow 111250, Russia; Target Type State-Owned Enterprise; Tax ID No. 7722701431 (Russia); Government Gazette Number 02066983 (Russia); Registration Number 1097746729816 (Russia) [RUSSIA-EO14024].

Designated pursuant to section 1(a)(i) of E.O. 14024 for operating or having operated in the aerospace sector of the Russian Federation economy.

15. SPACE RESEARCH INSTITUTE RUSSIAN ACADEMY OF SCIENCES (a.k.a. FEDERALNOE GOSUDARSTVENNOE BYUDZHETNOE UCHREZHDENIE NAUKI INSTITUT KOSMICHESKIKH ISSLEDOVANI ROSSISKOI AKADEMII NAUK; a.k.a. IKI RAN FGBU; a.k.a. “IKI RAS”), Ul Profsoyuznaya, D 84/32, Moscow 117997, Russia; Tax ID No. 7728113806 (Russia); Government Gazette Number 02698692 (Russia); Registration Number 1027739475279 (Russia) [RUSSIA-EO14024].

Designated pursuant to section 1(a)(i) of E.O. 14024 for operating or having operated in the aerospace sector of the Russian Federation economy.

16. ALEKSINSKII KHIMICHESKII KOMBINAT (a.k.a. ALEKSINSKY CHEMICAL COMBINE; a.k.a. ALEKSINSKY CHEMICAL PLANT; a.k.a. “AKHK”), pl. Pobedy D. 21, Aleksin 301361, Russia; Tax ID No. 7111003056 (Russia); Registration Number 1027100507510 (Russia) [RUSSIA-EO14024].

Designated pursuant to section 1(a)(i) of E.O. 14024 for operating or having operated in the defense and related materiel sector of the Russian Federation economy, and pursuant to section 1(a)(i) of E.O. 14024 for operating or having operated in the manufacturing sector of the Russian Federation economy.

17. KAZANSKII GOSUDARSTVENNYI KAZENNYI POROKHOVOI ZAVOD (a.k.a. FEDERAL STATE ENTERPRISE KAZAN FEDERAL STATE GUNPOWDER PLANT; a.k.a. “KGKPZ”), ul. Pervogo Maya D. 14, Kazan 420032, Russia; Tax ID No. 1656025681 (Russia); Registration Number 1031624002937 (Russia) [RUSSIA-EO14024].

Designated pursuant to section 1(a)(i) of E.O. 14024 for operating or having operated in the defense and related materiel sector of the Russian Federation economy.

18. TAMBOVSKII POROKHOVOI ZAVOD (a.k.a. TAMBOV GUNPOWDER PLANT; a.k.a. TAMBOV POWDER PLANT; a.k.a. “TPZ”), PR-kt Truda D.23, Kotovsk 393190, Russia; Registration ID 1026801010994 (Russia); Tax ID No. 6825000757 (Russia) [RUSSIA-EO14024].

Designated pursuant to section 1(a)(i) of E.O. 14024 for operating or having operated in the defense and related materiel sector of the Russian Federation economy.

19. OPEN JOINT STOCK COMPANY RUSSIAN INSTITUTE OF RADIONAVIGATION AND TIME (a.k.a. “JSC RIRT”), Pl. Rastrelli D. 2, Saint Petersburg 191124, Russia; Pr-kt Obukhovskoi Oborony D. 120, Lit. ets, Saint Petersburg 192012, Russia; 19 Staraya Basmannaya str., building 12, Moscow 105066, Russia; Organization Established Date 07 Sep 1956; Tax ID No. 7825507108 (Russia); Registration Number 1037843100052 (Russia) [RUSSIA-EO14024].

Designated pursuant to section 1(a)(i) of E.O. 14024 for operating or having operated in the aerospace sector of the Russian Federation economy.

20. BUDKER INSTITUTE OF NUCLEAR PHYSICS OF SIBERIAN BRANCH RUSSIAN ACADEMY OF SCIENCES (a.k.a. BUDKER INSTITUTE OF NUCLEAR PHYSICS OF SB RAS; a.k.a. FEDERALNOE GOSUDARSTVENNOE BYUDZHETNOE UCHREZHDENIE NAUKI INSTITUT YADERNOL FIZIKI IM. G.I. BUDKERA SIBIRSKOGO OTDELENIYA ROSSISKOI AKADEMII NAUK; f.k.a. INSTITUTE OF NUCLEAR PHYSICS OF THE SIBERIAN BRANCH OF THE USSR ACADEMY OF SCIENCE; a.k.a. IYAF SO RAN FGBU; a.k.a. “BINP SB RAS”), Prospkt Akademika Lavrentyeva D 11, Novosibirsk 630090, Russia; Organization Established Date 19 Jul 1994; Tax ID No. 5408105577 (Russia); Government Gazette Number 03533872 (Russia); Registration Number 1025403658136 (Russia) [RUSSIA-EO14024].

Designated pursuant to section 1(a)(i) of E.O. 14024 for operating or having operated in the technology sector of the Russian Federation economy.

21. INSTITUTE OF LASER PHYSICS OF THE SIBERIAN BRANCH OF THE RUSSIAN ACADEMY OF SCIENCES (a.k.a. FEDERALNOE GOSUDARSTVENNOE BYUDZHETNOE UCHREZHDENIE NAUKI INSTITUT LAZERNOI FIZIKI SIBIRSKOGO OTDELENIYA ROSSISKOI AKADEMII NAUK; a.k.a. ILF SO RAN FGBU; a.k.a. INSTITUTE OF LASER PHYSICS OF THE SIBERIAN BRANCH OF THE RAS; a.k.a. INSTITUTE OF LASER PHYSICS SB RAS; a.k.a. “ILP SB RAS”), 15B, prospekt Akademika Lavrenteva, Novosibirsk, Novosibirskaya Obl. 630090, Russia; Organization Established Date 06 Aug 1991; Tax ID No. 5408105471 (Russia); Government Gazette Number 11822515 (Russia); Registration Number 1025403665572 (Russia) [RUSSIA-EO14024].

Designated pursuant to section 1(a)(vii) of E.O. 14024 for being owned or controlled by, or for having acted or purported to act for or on behalf of, directly or indirectly, the Government of the Russian Federation.

22. P.L. KAPITZA INSTITUTE FOR PHYSICAL PROBLEMS, RUSSIAN ACADEMY OF SCIENCES (a.k.a. FEDERALNOE GOSUDARSTVENNOE BYUDZHETNOE UCHREZHDENIE NAUKI INSTITUT FIZICHESKIKH PROBLEM IM. P.L. KAPITSY ROSSISKOI AKADEMII NAUK; f.k.a. FEDERALNOE GOSUDARSTVENNOE BYUDZHETNOE UCHREZHDENIE NAUKI INSTITUT FIZICHESKIKH PROBLEM IM. P.L. KAPITSY ROSSISKOI AKADEMII NAUK BU; a.k.a. “IFP RAN FGBU”; a.k.a. “KIPP”), Kapitaza Institute, 2 ul. Kosygina, Moscow 119334, Russia; Organization Established Date 31 Jan 1994; Tax ID No. 7736039850 (Russia); Government Gazette Number 02699338 (Russia); Registration Number 1037739409311 (Russia) [RUSSIA-EO14024].

Designated pursuant to section 1(a)(i) of E.O. 14024 for operating or having operated in the technology sector of the Russian Federation economy.

23. JOINT STOCK COMPANY URAL MINING AND METALLURGICAL COMPANY (a.k.a. OTKRYTOE AKTSIONERNOE OBSHCHESTVO URALSKAYA GORNO METALLURGICHESKAYA KOMPANIYA; a.k.a. “UMMC”), 1, prospekt Uspenski, Verkhnyaya Pyshma, Sverdlovsk region 624091, Russia; Organization Established Date 20 Oct 1999; Tax ID No. 6606013640 (Russia); Government Gazette Number 52306330 (Russia); Registration Number 1026600727713 (Russia) [RUSSIA-EO14024].

Designated pursuant to section 1(a)(i) of E.O. 14024 for operating or having operated in the metals and mining sector of the Russian Federation economy.

24. JOINT STOCK COMPANY URALELEKTROMED (a.k.a. AKTSIONERNOE OBSHCHESTVO URALELEKTROMED; f.k.a. OPEN JOINT STOCK COMPANY URALELECTROMED; a.k.a. URALELEKTROMED AO; a.k.a. URALELEKTROMED JSC; a.k.a. URALELEKTROMED PUBLIC JOINT STOCK COMPANY), 1, Lenin Street, Lugovskoy 624091, Russia; 1, prospekt Uspenski Verkhnyaya Pyshma, Sverdlovsk region 624091, Russia; Organization Established Date 23 Dec 1992; Tax ID No. 6606003385 (Russia); Government Gazette Number 00194429 (Russia); Registration Number 1026600726657 (Russia) [RUSSIA-EO14024].

Designated pursuant to section 1(a)(i) of E.O. 14024 for operating or having operated in the metals and mining sector of the Russian Federation economy.

25. JOINT STOCK COMPANY SCIENTIFIC PRODUCTION ENTERPRISE RESEARCH AND DESIGN INSTITUTE OF WELL LOGGING (a.k.a. JOINT STOCK COMPANY NPP VNIIGIS; a.k.a. “AO NPP VNIIGIS”), 1, ul. Gorkogo Oktyabrski, Bashkortostan Republic 452614, Russia; Organization Established Date 26 Dec 1995; Tax ID No. 0265013492 (Russia); Government Gazette Number 01423872 (Russia); Registration Number 1020201929439 (Russia) [RUSSIA-EO14024].

Designated pursuant to section 1(a)(i) of E.O. 14024 for operating or having operated in the manufacturing sector of the Russian Federation economy.

26. FUND FOR DEVELOPMENT OF ENERGY COMPLEX ENERGY (a.k.a. FOND ENERGIA; a.k.a. FOUNDATION FACILITATION OF THE STRATEGIC DEVELOPMENT OF THE FUEL AND ENERGY COMPLEX ENERGY; a.k.a. “FUND ENERGY”), Ul. 1-YA Frunzenskaya D. 6, Moscow 119146, Russia; Organization Established Date 28 May 2008; Tax ID No. 7704274995 (Russia); Registration Number 1087799025269 (Russia) [RUSSIA-EO14024].

Designated pursuant to section 1(a)(i) of E.O. 14024 for operating or having operated in the financial services sector of the Russian Federation economy.

27. JOINT STOCK COMPANY LOCKO BANK, Leningrad Prosp, D 39 building 80, Moscow 125167, Russia; SWIFT/BIC CLOKRUMM; website http://www.lockobank.ru; Organization Established Date 1994; Target Type Financial Institution; Tax ID No. 7750003943 (Russia); Identification Number 3QL4V4.99999.SL.643 (Russia); Legal Entity Number 253400BCBR616MTH6594 (Russia); Registration Number 1057711014195 (Russia) [RUSSIA-EO14024].

Designated pursuant to section 1(a)(i) of E.O. 14024 for operating or having operated in the financial services sector of the Russian Federation economy.

28. JOINT STOCK COMPANY COMMERCIAL BANK SOLIDARNOST, Ul. Kubysheva D. 90, Samara 443099, Russia; SWIFT/BIC SLDRRU3S; website www.solid.ru; Organization Established Date 23 Oct 1990; Target Type Financial Institution; Tax ID No. 6316028910 (Russia); Identification Number BE8HW8.99999.SL.643 (Russia); Legal Entity Number 253400V4HY4PH2NE7E79; Registration Number 1026300001848 (Russia) [RUSSIA-EO14024].

Designated pursuant to section 1(a)(i) of E.O. 14024 for operating or having operated in the financial services sector of the Russian Federation economy.

29. UNISTREAM COMMERCIAL BANK JSC (a.k.a. AO KB YUNISTRIM), Ul. Verkhnyaya Maslovka D. 20, Str. 2, Moscow 127083, Russia; SWIFT/BIC UMTNRUMM; website www.unistream.ru; Organization Established Date 31 May 2006; Target Type Financial Institution; Tax ID No. 7750004009 (Russia); Identification Number 2S1RNS.99999.SL.643 (Russia); Registration Number 1067711004437 (Russia) [RUSSIA-EO14024].

Designated pursuant to section 1(a)(i) of E.O. 14024 for operating or having operated in the financial services sector of the Russian Federation economy.

30. JOINT STOCK COMPANY PETERSBURG SOCIAL COMMERCIAL BANK (a.k.a. JSC BANK PSCB; f.k.a. PETERSBURG SOCIAL COMMERCIAL BANK OPEN JOINT STOCK COMPANY), Ul. Shpalernaya D. 42, Saint Petersburg 191123, Russia; Moscow, Russia; SWIFT/BIC PSOCRU2P; alt. SWIFT/BIC PSOCRUA1; website http://www.pscb.ru; Organization Established Date 29 Oct 1993; Target Type Financial Institution; Tax ID No. 7831000965 (Russia); Identification Number 3QL4V4.99999.SL.643 (Russia); Legal Entity Number 25340080MLWXGXT26935; Registration Number 1027800000227 (Russia) [RUSSIA-EO14024].

Designated pursuant to section 1(a)(i) of E.O. 14024 for operating or having operated in the financial services sector of the Russian Federation economy.

31. JSC TINKOFF BANK (a.k.a. KHIMMASHBANK; f.k.a. TINKOFF CREDIT SYSTEMS BANK CLOSED JOINT STOCK COMPANY), Ul. 2nd Khutorskaya, 38A, building 26, Moscow 127287, Russia; SWIFT/BIC TICSRUMM; website www.tinkoff.ru; Target Type Financial Institution; Tax ID No. 7710140679 (Russia); Identification Number TQWL8F.99999.SL.643 (Russia); Legal Entity Number 2534000KL0PLD6KG7T76; Registration Number 1027739642281 (Russia) [RUSSIA-EO14024].

Designated pursuant to section 1(a)(i) of E.O. 14024 for operating or having operated in the financial services sector of the Russian Federation economy.

32. AMEGINO FZE, T1-9F-6D, RAKEZ Amenity Center, Al Hamra Industrial Zone-FZ, Ras Al Khaimah, United Arab Emirates; Organization Established Date 04 May 2017; Registration Number 5014362 (United Arab Emirates) [RUSSIA-EO14024].

Designated pursuant to section 1(a)(i) of E.O. 14024 for operating or having operated in the electronics sector of the Russian Federation economy and pursuant to section 1(a)(i) of E.O. 14024 for operating or having operated in the technology sector of the Russian Federation economy.

33. A.M. PROKHOROV GENERAL PHYSICS INSTITUTE RUSSIAN ACADEMY OF SCIENCES (a.k.a. FEDERALNOE GOSUDARSTVENNOE BYUDZHETNOE UCHREZHDENNIE NAUKI FEDERALNY ISSLEDOVATELSKI TSENTR INSTITUT OBSHCHEI FIZIKI IM. A.M. PROKHOROVA ROSSISKOI AKADEMII NAUK; a.k.a. PROKHOROV GENERAL PHYSICS INSTITUTE OF RAS; a.k.a. PROKHOROV GENERAL PHYSICS INSTITUTE OF THE RUSSIAN ACADEMY OF SCIENCES; a.k.a. RUSSIAN ACADEMY OF SCIENCES—ALEXANDR MIKHAILOVICH PROKHOROV GENERAL PHYSICS INSTITUTE; a.k.a. “GPI RAS”; a.k.a. “IOF RAN”; a.k.a. “IOF RAN FGBU”), d. 38, ul. Vavilova Moscow, Moscow 119991, Russia; Organization Established Date 14 Sep 1993; Tax ID No. 7736029700 (Russia); Government Gazette Number 02700457 (Russia); Registration Number 1027700378595 (Russia) [RUSSIA-EO14024].

Designated pursuant to section 1(a)(i) of E.O. 14024 for operating or having operated in the technology sector of the Russian Federation economy.

34. OSIPYAN INSTITUTE OF SOLID STATE PHYSICS OF THE RUSSIAN ACADEMY OF SCIENCES (f.k.a. FEDERAL STATE BUDGETARY INSTITUTION OF SCIENCE INSTITUTE OF SOLID STATE PHYSICS N.A. YU. A. OSIPYAN OF THE RUSSIAN ACADEMY OF SCIENCES; f.k.a. FEDERALNOE GOSUDARSTVENNOE BYUDZHETNOE UCHREZHDENIE NAUKI INSTITUT FIZIKI TVERDOGO TELA ROSSISKOI AKADEMII NAUK BU; a.k.a. FEDERALNOE GOSUDARSTVENNOE BYUDZHETNOE UCHREZHDENIE NAUKI INSTITUT FIZIKI TVERDOGO TELA ROSSISKOI AKADEMII NAUK FGBU; a.k.a. INSTITUTE OF SOLID STATE PHYSICS OF THE ACADEMY OF SCIENCES SSSR; a.k.a. “IFTT RAN”; a.k.a. “ISSP RAS”), d. 2, ul. Akademika Osipyana Chernogolovka, Moskovskaya Obl 142432, Russia; Organization Established Date 12 Mar 1998; Tax ID No. 5031003120 (Russia); Government Gazette Number 02699796 (Russia); Registration Number 1025003915243 (Russia) [RUSSIA-EO14024].

Designated pursuant to section 1(a)(i) of E.O. 14024 for operating or having operated in the technology sector of the Russian Federation economy.

35. FEDERAL STATE BUDGETARY INSTITUTION OF SCIENCE FEDERAL RESEARCH CENTER KAZAN SCIENTIFIC CENTER OF THE RUSSIAN ACADEMY OF SCIENCES (f.k.a. FEDERAL GOSUDARSTVENNOE BYUDZHETNOE UCHREZHDENIE NAUKI KAZANSKI NAUCHNY TSENTR ROSSISKOI AKADEMII NAUK UCH; a.k.a. FEDERAL RESEARCH CENTER KAZAN SCIENTIFIC CENTER OF THE RUSSIAN ACADEMY OF SCIENCES; a.k.a. FEDERALNOE GOSUDARSTVENNOE BYUDZHETNOE UCHREZHDENIE NAUKI FEDERALNY ISSLEDOVATELSKI TSENTR KAZANSKI NAUCHNY TSENTR ROSSISKOI AKADEMII NAUK; a.k.a. FITS KAZNTS RAN; a.k.a. FITS KAZNTS RAN FGBU; a.k.a. FRC KAZSC RAS), d. 2/31, ul. Lobachevskogo Kazan, Tatarstan Republic 420111, Russia; Organization Established Date 22 Apr 1991; Tax ID No. 1655022127 (Russia); Government Gazette Number 33859469 (Russia); Registration Number 1021602842359 (Russia) [RUSSIA-EO14024].

Designated pursuant to section 1(a)(i) of E.O. 14024 for operating or having operated in the technology sector of the Russian Federation economy.

36. JOINT STOCK COMPANY GAZPROM AVTOMATIZATSIYA (a.k.a. GAZAVTOMATIKA; a.k.a. OTKRYTOE AKTSIONERNOE OBSCHESTVO GAZPROM AVTOMATIZATSIYA; a.k.a. PUBLICHNOE AKTSIONERNOE OBSCHESTVO GAZPROM AVTOMATIZATSIYA), 25, Savvinskaya Naberezhnaya, Moscow 119435, Russia; d. 3 pom. VI kom. 21, ul. Kirpichnye Vyemki Moscow, Moscow 117405, Russia; Organization Established Date 05 Aug 1993; Tax ID No. 7704028125 (Russia); Government Gazette Number 00159093 (Russia); Registration Number 1027700055360 (Russia) [RUSSIA-EO14024].

Designated pursuant to section 1(a)(i) of E.O. 14024 for operating or having operated in the manufacturing sector of the Russian Federation economy.

37. LIMITED LIABILITY COMPANY AK MICROTECH (a.k.a. AK MIKROTEKH; a.k.a. “LLC AKM”), Sh. Varshavskoe d. 118, k. 1, floor 19 kom 3, Moscow 117587, Russia; Tax ID No. 7731339867 (Russia); Registration Number 5167746451648 (Russia) [RUSSIA-EO14024].

Designated pursuant to section 1(a)(i) of E.O. 14024 for operating or having operated in the electronics sector of the Russian Federation economy.

38. MCI TRADING DOO BEOGRAD PALILULA (a.k.a. MCI DOO BEOGRAD), Mirocka 1/1, Belgrade 11060, Serbia; Tax ID No. 104545548 (Serbia); Registration Number 20186909 (Serbia) [RUSSIA-EO14024] (Linked To: LIMITED LIABILITY COMPANY AK MICROTECH).

Designated pursuant to section 1(a)(vi)(B) of E.O. 14024 for having materially assisted, sponsored, or provided financial, material, or technological support for, or goods or services to or in support of Limited Liability Company AK Microtech, a person whose property and interests in property are blocked pursuant to E.O. 14024.

39. LIMITED LIABILITY COMPANY TYUMEN PETROLEUM RESEARCH CENTER (a.k.a. OBSHCHESTVO S OGRANICHENNOI OTVETSTVENNOSTYU TYUMENSKI NEFTYANOI NAUCHNY TSENTR; a.k.a. TNNTS LIMITED LIABILITY COMPANY; a.k.a. TPRC LIMITED LIABILITY COMPANY), d. 42, ul. Maksima Gorkogo Tyumen, Tyumen region 625048, Russia; Organization Established Date 30 Oct 2000; Tax ID No. 7202157173 (Russia); Government Gazette Number 5544280 (Russia); Registration Number 1077203000434 (Russia) [RUSSIA-EO14024].

Designated pursuant to section 1(a)(i) of E.O. 14024 for operating or having operated in the technology sector of the Russian Federation economy.

40. JOINT STOCK COMPANY NEFTEGAZAVTOMATIKA (a.k.a. NEFTEGAZAVTOMATIKA AO (Cyrillic: НЕФТЕГАЗАВТОМАТИКА АО)), Shosse Varshavshoe 39, Moscow 113105, Russia; Organization Established Date 19 Aug 1992; Tax ID No. 7724230019 (Russia); Registration Number 1037739224973 (Russia) [RUSSIA-EO14024].

Designated pursuant to section 1(a)(i) of E.O. 14024 for operating or having operated in the manufacturing sector of the Russian Federation economy.

41. LIMITED LIABILITY COMPANY OKTANTA (a.k.a. OKTANTA NDT), Ul. Mayakovskogo D. 22, Kv. 34, Saint Petersburg 191014, Russia; Organization Established Date 05 May 2010; Tax ID No. 7841425639 (Russia); Registration Number 1107847143557 (Russia) [RUSSIA-EO14024].

Designated pursuant to section 1(a)(i) of E.O. 14024 for operating or having operated in the manufacturing sector of the Russian Federation economy.

42. LIMITED LIABILITY COMPANY PERM OIL MACHINE COMPANY, Ul. Teknicheskaya D. 5, Perm 614070, Russia; Organization Established Date 11 Jun 1996; Tax ID No. 7727653358 (Russia); Registration Number 1087746698137 (Russia) [RUSSIA-EO14024].

Designated pursuant to section 1(a)(i) of E.O. 14024 for operating or having operated in the manufacturing sector of the Russian Federation economy.

43. LIMITED LIABILITY COMPANY PROIZVOSTVENNAYA KOMMERCHESKAYA FIRMA GAZNEFTEMASH (a.k.a. GAZNEFTEMASH LLC; a.k.a. PKF GAZNEFTEMASH), Km Kievskoe Shosse 22-1, Domovladenie 4, Str. 5, Moscow 108811, Russia; Organization Established Date 02 Jun 2008; Tax ID No. 7727653358 (Russia); Registration Number 1087746698137 (Russia) [RUSSIA-EO14024].

Designated pursuant to section 1(a)(i) of E.O. 14024 for operating or having operated in the manufacturing sector of the Russian Federation economy.

44. LIMITED LIABILITY COMPANY RUSTMASH, Ul. Lenina D. 1, Korp. 120, Taldom 141960, Russia; Organization Established Date 22 Jul 2010; Tax ID No. 5078019486 (Russia); Registration Number 1105010001909 (Russia) [RUSSIA-EO14024].

Designated pursuant to section 1(a)(i) of E.O. 14024 for operating or having operated in the manufacturing sector of the Russian Federation economy.

45. ARSENAL MACHINE BUILDING PLANT OPEN JOINT STOCK COMPANY (a.k.a. ARSENAL MACHINE BUILDING PLANT OJSC; a.k.a. MZ ARSENAL OAO; a.k.a. MZ ARSENAL PAO; a.k.a. OTKRYTOE AKTSIONERNOE OBSCHESTVO MASHINOSTROITELNYI ZAVOD ARSENAL), 1-3, Komsomola Street, Saint Petersburg 195009, Russia; Tax ID No. 7804040302 (Russia); Government Gazette Number 07541733 (Russia); Registration Number 1027802490540 (Russia) [RUSSIA-EO14024].

Designated pursuant to section 1(a)(i) of E.O. 14024 for operating or having operated in the aerospace sector of the Russian Federation economy.

46. JOINT STOCK COMPANY EXPERIMENTAL DESIGN BUREAU FAKEL (a.k.a. AKTSIONERNOE OBSHCHESTVO OPYTNOE KONSTRUKTORSKOE BYURO FAKEL; a.k.a. AO OKB FAKEL; a.k.a. JSC EDB FAKEL), Moskovskii PR D. 181, Kaliningrad 236001, Russia; Target Type State-Owned Enterprise; Tax ID No. 3906390669 (Russia); Government Gazette Number 44161069 (Russia); Registration Number 1203900004670 (Russia) [RUSSIA-EO14024].

Designated pursuant to section 1(a)(i) of E.O. 14024 for operating or having operated in the aerospace sector of the Russian Federation economy.

47. JOINT STOCK COMPANY RESEARCH AND PRODUCTION CORPORATION PRECISION SYSTEMS AND INSTRUMENTS (a.k.a. AKTSIONERNOE OBSHCHESTVO NAUCHNO PROIZVODSTVENNAYA KORPORATSIYA SISTEMY PRETSIZIONNOGO PRIBOROSTROENIYA; a.k.a. JSC RESEARCH AND PRODUCTION CORPORATION PRECISION SYSTEMS AND INSTRUMENTS; a.k.a. SCIENTIFIC AND INDUSTRIAL CORPORATION PRECISION INSTRUMENT SYSTEMS; a.k.a. “AO NPK SPP”; a.k.a. “JSC RPC PSI”), ul. Aviamotornaya D. 53, Moscow 111024, Russia; Target Type State-Owned Enterprise; Tax ID No. 7722698108 (Russia); Government Gazette Number 07559035 (Russia); Registration Number 1097746629639 (Russia) [RUSSIA-EO14024].

Designated pursuant to section 1(a)(i) of E.O. 14024 for operating or having operated in the aerospace sector of the Russian Federation economy.

48. M.V. FRUNZE ARSENAL DESIGN BUREAU JOINT STOCK COMPANY (a.k.a. AKTSIONERNOE OBSHCHESTVO KONSTRUKTORSKOE BYURO ARSENAL IMENI M.V. FRUNZE; a.k.a. AO KB ARSENAL), ul. Komsomola, D.1-3, Saint Petersburg 195009, Russia; Target Type State-Owned Enterprise; Tax ID No. 7804588900 (Russia); Government Gazette Number 06506278 (Russia); Registration Number 1177847042229 (Russia) [RUSSIA-EO14024].

Designated pursuant to section 1(a)(i) of E.O. 14024 for operating or having operated in the aerospace sector of the Russian Federation economy.

49. LIMITED LIABILITY COMPANY ISHIMBAY SPECIALIZED CHEMICAL PLANT OF CATALYST (a.k.a. “ISCPC LLC”), Ul. Levyi Bereg D. 6, Ishimbay 453203, Russia; Organization Established Date 26 Apr 2006; Tax ID No. 0261014551 (Russia); Registration Number 1060261010996 (Russia) [RUSSIA-EO14024].

Designated pursuant to section 1(a)(i) of E.O. 14024 for operating or having operated in the manufacturing sector of the Russian Federation economy.

50. LIMITED LIABILITY COMPANY KNT KAT (a.k.a. “KNT GROUP”), Ul. Kommunisticheskaya D. 116, Kv. 48, Sterlitamak 453100, Russia; Organization Established Date 26 Jul 2018; Tax ID No. 0268084396 (Russia); Registration Number 1180280043580 (Russia) [RUSSIA-EO14024].

Designated pursuant to section 1(a)(i) of E.O. 14024 for operating or having operated in the manufacturing sector of the Russian Federation economy.

51. LIMITED LIABILITY COMPANY RN KAT, Ul. Tekhnicheskaya D. 32, Korpus 159, Pom. 2, Sterlitamak 453110, Russia; Organization Established Date 06 Aug 2018; Tax ID No. 0268084491 (Russia); Registration Number 1180280045725 (Russia) [RUSSIA-EO14024].

Designated pursuant to section 1(a)(i) of E.O. 14024 for operating or having operated in the manufacturing sector of the Russian Federation economy.

52. LIMITED LIABILITY COMPANY STERLITAMAK CATALYST PLANT (a.k.a. STERLITAMAKSKII ZAVOD KATALIZATOROV; a.k.a. “SZK OOO”), Ul. Tekhnicheskaya 32, Sterlitamak 453110, Russia; Organization Established Date 11 Feb 2004; Tax ID No. 0268033994 (Russia); Registration Number 1040203421378 (Russia) [RUSSIA-EO14024].

Designated pursuant to section 1(a)(i) of E.O. 14024 for operating or having operated in the manufacturing sector of the Russian Federation economy.

53. AO NPO KURGANPRIBOR (Cyrillic: АО НПО КУРГАНПРИБОР) (a.k.a. AKTSIONERNOE OBSHCHESTVO NAUCHNOPROIZVODSTVENNOE OBEDINENIE KURGANPRIBOR (Cyrillic: АКЦИОНЕРНОЕ ОБЩЕСТВО НАУЧНОПРОИЗВОДСТВЕННОЕ ОБЪЕДИНЕНИЕ КУРГАНПРИБОР); a.k.a. KURGANPRIBOR JSC), Ul. Yastrzhembskogo D. 41A, Kurgan 640007, Russia; Tax ID No. 4501129676 (Russia); Registration Number 1074501002839 (Russia) [RUSSIA-EO14024].

Designated pursuant to section 1(a)(i) of E.O. 14024 for operating or having operated in the defense and related materiel sector of the Russian Federation economy.

54. JOINT STOCK COMPANY ASTROPHYSIKA NATIONAL CENTRE OF LASER SYSTEMS AND COMPLEXES (a.k.a. AKTSIONERNOE OBSHCHESTVO NATSIONALNIY TSENTR LAZERNYKH SISTEM I KOMPLEKSOV ASTROFIZIKA (Cyrillic: АКЦИОНЕРНОЕ ОБЩЕСТВО НАЦИОНАЛЬНЫЙ ЦЕНТР ЛАЗЕРНЫХ СИСТЕМ И КОМПЛЕКСОВ АСТРОФИЗИКА); a.k.a. AO NTSLSK ASTROFIZIKA; a.k.a. GP NPO ASTROFIZIKA), Ul. Aleksandra Solzhenitsyna D. 27, Pomeshch. I, Moscow 109004, Russia; Tax ID No. 7733826256 (Russia); Registration Number 1127747254744 (Russia) [RUSSIA-EO14024].

Designated pursuant to section 1(a)(i) of E.O. 14024 for operating or having operated in the technology sector of the Russian Federation economy.

55. BASIS TRADE PROSOFT LLC (a.k.a. BAZIS TREID PROSOFT; a.k.a. “BTPTRADE”), Per. Savvinskii B D. 16, Pom/Et I/1, Moscow 119435, Russia; Tax ID No. 7704345974 (Russia); Registration Number 1167746176883 (Russia) [RUSSIA-EO14024].

Designated pursuant to section 1(a)(i) of E.O. 14024 for operating or having operated in the technology sector of the Russian Federation economy.

56. LIMITED LIABILITY COMPANY SIAISI, B-r Andreya Tarkovskogo d. 9, kv. 13, Poselenie Vnukovskoe 108850, Russia; Tax ID No. 7728192029 (Russia); Registration Number 1157746095748 (Russia) [RUSSIA-EO14024].

Designated pursuant to section 1(a)(i) of E.O. 14024 for operating or having operated in the electronics sector of the Russian Federation economy.

57. LLC RM DESIGN AND DEVELOPMENT (a.k.a. OSOO RM DIZAYN AND DEVELOPMENT; a.k.a. OSOO RM DIZAYN END DEVELOPMENT; a.k.a. RM DESIGN&DEVELOPMENT; a.k.a. RM DESIGNANDDEVELOPMENT; a.k.a. RM DIZAIN AND DEVELOPMENT OSOO), Chyngyza Atymatova Str., 303, Bishkek 720016, Kyrgyzstan; Organization Established Date 17 Mar 2022; Tax ID No. 01703202210110 (Kyrgyzstan) [RUSSIA-EO14024].

Designated pursuant to section 1(a)(i) of E.O. 14024 for operating or having operated in the electronics sector of the Russian Federation economy.

58. OOO RADIOTEKHSNAB (a.k.a. RADIOTECHSNAB), Kosa Petrovskaya d. 1, k. 1, lit. R, pomeshch. 32N, Saint Petersburg 197110, Russia; Tax ID No. 7813257380 (Russia); Registration Number 1167847310619 (Russia) [RUSSIA-EO14024].

Designated pursuant to section 1(a)(i) of E.O. 14024 for operating or having operated in the electronics sector of the Russian Federation economy.

59. OSOO KARGOLAYN (a.k.a. CARGOLINE LLC), Str. Shabdan Baatyra 27/1, Bishkek 720001, Kyrgyzstan; Organization Established Date 25 Mar 2022; Tax ID No. 02503202210145 (Kyrgyzstan) [RUSSIA-EO14024].

Designated pursuant to section 1(a)(i) of E.O. 14024 for operating or having operated in the aerospace sector of the Russian Federation economy.

60. OSOO PROGRESS LIDER (a.k.a. PROGRESS LEADER LLC), Skryabina 39/1, Bishkek 720001, Kyrgyzstan; Organization Established Date 25 Mar 2022; Tax ID No. 02503202210310 (Kyrgyzstan) [RUSSIA-EO14024] (Linked To: LIMITED LIABILITY COMPANY SIAISI).

Designated pursuant to section 1(a)(vi)(B) of E.O. 14024 for having materially assisted, sponsored, or provided financial, material, or technological support for, or goods or services to or in support of Limited Liability Company Siaisi, a person whose property and interests in property are blocked pursuant to E.O. 14024.

61. REGION-PROF LLC, Profsoyuznaya ulitsa d. 108, Moscow 117437, Russia; ul. Akademika Volgina d. 33, Pom. I Kom 38 Et 3, Moscow 117437, Russia; Tax ID No. 7728599583 (Russia); Registration Number 1067759114675 (Russia) [RUSSIA-EO14024].

Designated pursuant to section 1(a)(i) of E.O. 14024 for operating or having operated in the electronics sector of the Russian Federation economy.

62. TECHNOLOGIES SYSTEMS AND COMPLEXES LIMITED (a.k.a. OOO TEKHNOLOGII SISTEMY I KOMPLEKSY; a.k.a. “TSC LTD”), Per. Perevedenovskii d. 21, str. 13, floor 1, pomeshch. 10, Moscow 105082, Russia; Tax ID No. 7701922888 (Russia); Registration Number 1117746474010 (Russia) [RUSSIA-EO14024].

Designated pursuant to section 1(a)(i) of E.O. 14024 for operating or having operated in the technology sector of the Russian Federation economy.

63. ZAO GTME TEKHNOLOGII, Str. Fatyanova 43, Bishkek 720001, Kyrgyzstan; Organization Established Date 28 Jun 2022; Tax ID No. 02806202210325 (Kyrgyzstan) [RUSSIA-EO14024].

Designated pursuant to section 1(a)(i) of E.O. 14024 for operating or having operated in the technology sector of the Russian Federation economy.

64. CLOSED JOINT STOCK COMPANY SUPERCONDUCTING NANOTECHNOLOGY (a.k.a. LIMITED LIABILITY COMPANY SUPERCONDUCTING NANOTECHNOLOGY; a.k.a. OBSHCHESTVO S OGRANICHENNOI OTVETSTVENNOSTYU SVERKHPROVODNIKOVYE NANOTEKHNOLOGII; a.k.a. SCONTEL; a.k.a. SKONTEL AO; a.k.a. SKONTEL OOO), 5 str. 1 etazh 4 pom. I kom. 14, ul. Lva Tolstogo, Moscow 119021, Russia; Organization Established Date 19 Jan 2005; Tax ID No. 7704445168 (Russia); Government Gazette Number 19634279 (Russia); Registration Number 5177746003815 (Russia) [RUSSIA-EO14024].

Designated pursuant to section 1(a)(i) of E.O. 14024 for operating or having operated in the technology sector of the Russian Federation economy.

65. JOINT STOCK COMPANY TULA CARTRIDGE WORKS (a.k.a. TULA CARTRIDGE PLANT; a.k.a. TULAMMO; a.k.a. “AO TPZ”), ul. Marata D. 47 B, Tula 300004, Russia; Tax ID No. 7105008338 (Russia); Registration Number 1027100507268 (Russia) [RUSSIA-EO14024].

Designated pursuant to section 1(a)(i) of E.O. 14024 for operating or having operated in the defense and related materiel sector of the Russian Federation economy.

66. UMMC NONFERROUS METALS PROCESSING LIMITED LIABILITY COMPANY (a.k.a. LIMITED LIABILITY COMPANY UMMC NFMP; a.k.a. OBSHCHESTVO S OGRANICHENNOI OTVETSTVENNOSTYU UGMK OTSM; a.k.a. UGMK OTSM OOO), Ul. Petrova D. 59, Lit. D., Verkhnyaya Pyshma 624092, Russia; str. 1 kab. 206, prospekt Uspenski, Verkhnyaya Pyshma, Sverdlovsk region 624091, Russia; Organization Established Date 04 May 2007; Tax ID No. 6606024709 (Russia); Government Gazette Number 81180857 (Russia); Registration Number 1076606001152 (Russia) [RUSSIA-EO14024].

Designated pursuant to section 1(a)(i) of E.O. 14024 for operating or having operated in the metals and mining sector of the Russian Federation economy.

B. On August 3, 2023, OFAC updated the entry on the SDN List for the following persons, whose property and interests in property subject to U.S. jurisdiction continues to be blocked under the relevant sanctions authority listed below.

1. A.M. PROKHOROV GENERAL PHYSICS INSTITUTE RUSSIAN ACADEMY OF SCIENCES (a.k.a. FEDERALNOE GOSUDARSTVENNOE BYUDZHETNOE UCHREZHDENNIE NAUKI FEDERALNY ISSLEDOVATELSKI TSENTR INSTITUT OBSHCHEI FIZIKI IM. A.M. PROKHOROVA ROSSISKOI AKADEMII NAUK; a.k.a. PROKHOROV GENERAL PHYSICS INSTITUTE OF RAS; a.k.a. PROKHOROV GENERAL PHYSICS INSTITUTE OF THE RUSSIAN ACADEMY OF SCIENCES; a.k.a. RUSSIAN ACADEMY OF SCIENCES—ALEXANDR MIKHAILOVICH PROKHOROV GENERAL PHYSICS INSTITUTE; a.k.a. “GPI RAS”; a.k.a. “IOF RAN”; a.k.a. “IOF RAN FGBU”), d. 38, ul. Vavilova Moscow, Moscow 119991, Russia; Organization Established Date 14 Sep 1993; Tax ID No. 7736029700 (Russia); Government Gazette Number 02700457 (Russia); Registration Number 1027700378595 (Russia) [RUSSIA-EO14024].

-to-

A.M. PROKHOROV GENERAL PHYSICS INSTITUTE RUSSIAN ACADEMY OF SCIENCES (a.k.a. FEDERALNOE GOSUDARSTVENNOE BYUDZHETNOE UCHREZHDENNIE NAUKI FEDERALNY ISSLEDOVATELSKI TSENTR INSTITUT OBSHCHEI FIZIKI IM. A.M. PROKHOROVA ROSSISKOI AKADEMII NAUK; a.k.a. PROKHOROV GENERAL PHYSICS INSTITUTE OF RAS; a.k.a. PROKHOROV GENERAL PHYSICS INSTITUTE OF THE RUSSIAN ACADEMY OF SCIENCES; a.k.a. RUSSIAN ACADEMY OF SCIENCES—ALEXANDR MIKHAILOVICH PROKHOROV GENERAL PHYSICS INSTITUTE; a.k.a. “GPI RAS”; a.k.a. “IOF RAN”; a.k.a. “IOF RAN FGBU”), d. 38, ul. Vavilova, Moscow 119991, Russia; Organization Established Date 14 Sep 1993; Tax ID No. 7736029700 (Russia); Government Gazette Number 02700457 (Russia); Registration Number 1027700378595 (Russia) [RUSSIA-EO14024].

Designated pursuant to section 1(a)(i) of E.O. 14024 for operating or having operated in the technology sector of the Russian Federation economy.

2. FEDERAL STATE BUDGETARY INSTITUTION OF SCIENCE FEDERAL RESEARCH CENTER KAZAN SCIENTIFIC CENTER OF THE RUSSIAN ACADEMY OF SCIENCES (f.k.a. FEDERAL GOSUDARSTVENNOE BYUDZHETNOE UCHREZHDENIE NAUKI KAZANSKI NAUCHNY TSENTR ROSSISKOI AKADEMII NAUK UCH; a.k.a. FEDERAL RESEARCH CENTER KAZAN SCIENTIFIC CENTER OF THE RUSSIAN ACADEMY OF SCIENCES; a.k.a. FEDERALNOE GOSUDARSTVENNOE BYUDZHETNOE UCHREZHDENIE NAUKI FEDERALNY ISSLEDOVATELSKI TSENTR KAZANSKI NAUCHNY TSENTR ROSSISKOI AKADEMII NAUK; a.k.a. FITS KAZNTS RAN; a.k.a. FITS KAZNTS RAN FGBU; a.k.a. FRC KAZSC RAS), d. 2/31, ul. Lobachevskogo Kazan, Tatarstan Republic 420111, Russia; Organization Established Date 22 Apr 1991; Tax ID No. 1655022127 (Russia); Government Gazette Number 33859469 (Russia); Registration Number 1021602842359 (Russia) [RUSSIA-EO14024].

-to-

FEDERAL STATE BUDGETARY INSTITUTION OF SCIENCE FEDERAL RESEARCH CENTER KAZAN SCIENTIFIC CENTER OF THE RUSSIAN ACADEMY OF SCIENCES (f.k.a. FEDERAL GOSUDARSTVENNOE BYUDZHETNOE UCHREZHDENIE NAUKI KAZANSKI NAUCHNY TSENTR ROSSISKOI AKADEMII NAUK UCH; a.k.a. FEDERAL RESEARCH CENTER KAZAN SCIENTIFIC CENTER OF THE RUSSIAN ACADEMY OF SCIENCES; a.k.a. FEDERALNOE GOSUDARSTVENNOE BYUDZHETNOE UCHREZHDENIE NAUKI FEDERALNY ISSLEDOVATELSKI TSENTR KAZANSKI NAUCHNY TSENTR ROSSISKOI AKADEMII NAUK; a.k.a. FITS KAZNTS RAN; a.k.a. FITS KAZNTS RAN FGBU; a.k.a. FRC KAZSC RAS), d. 2/31, ul. Lobachevskogo, Kazan, Tatarstan Republic 420111, Russia; Organization Established Date 22 Apr 1991; Tax ID No. 1655022127 (Russia); Government Gazette Number 33859469 (Russia); Registration Number 1021602842359 (Russia) [RUSSIA-EO14024].

Designated pursuant to section 1(a)(i) of E.O. 14024 for operating or having operated in the technology sector of the Russian Federation economy.

3. OSIPYAN INSTITUTE OF SOLID STATE PHYSICS OF THE RUSSIAN ACADEMY OF SCIENCES (f.k.a. FEDERAL STATE BUDGETARY INSTITUTION OF SCIENCE INSTITUTE OF SOLID STATE PHYSICS N.A. YU. A. OSIPYAN OF THE RUSSIAN ACADEMY OF SCIENCES; f.k.a. FEDERALNOE GOSUDARSTVENNOE BYUDZHETNOE UCHREZHDENIE NAUKI INSTITUT FIZIKI TVERDOGO TELA ROSSISKOI AKADEMII NAUK BU; a.k.a. FEDERALNOE GOSUDARSTVENNOE BYUDZHETNOE UCHREZHDENIE NAUKI INSTITUT FIZIKI TVERDOGO TELA ROSSISKOI AKADEMII NAUK FGBU; a.k.a. INSTITUTE OF SOLID STATE PHYSICS OF THE ACADEMY OF SCIENCES SSSR; a.k.a. “IFTT RAN”; a.k.a. “ISSP RAS”), d. 2, ul. Akademika Osipyana Chernogolovka, Moskovskaya Obl 142432, Russia; Organization Established Date 12 Mar 1998; Tax ID No. 5031003120 (Russia); Government Gazette Number 02699796 (Russia); Registration Number 1025003915243 (Russia) [RUSSIA-EO14024].

-to-

OSIPYAN INSTITUTE OF SOLID STATE PHYSICS OF THE RUSSIAN ACADEMY OF SCIENCES (f.k.a. FEDERAL STATE BUDGETARY INSTITUTION OF SCIENCE INSTITUTE OF SOLID STATE PHYSICS N.A. YU. A. OSIPYAN OF THE RUSSIAN ACADEMY OF SCIENCES; f.k.a. FEDERALNOE GOSUDARSTVENNOE BYUDZHETNOE UCHREZHDENIE NAUKI INSTITUT FIZIKI TVERDOGO TELA ROSSISKOI AKADEMII NAUK BU; a.k.a. FEDERALNOE GOSUDARSTVENNOE BYUDZHETNOE UCHREZHDENIE NAUKI INSTITUT FIZIKI TVERDOGO TELA ROSSISKOI AKADEMII NAUK FGBU; a.k.a. INSTITUTE OF SOLID STATE PHYSICS OF THE ACADEMY OF SCIENCES SSSR; a.k.a. “IFTT RAN”; a.k.a. “ISSP RAS”), d. 2, ul. Akademika Osipyana, Chernogolovka, Moskovskaya Obl 142432, Russia; Organization Established Date 12 Mar 1998; Tax ID No. 5031003120 (Russia); Government Gazette Number 02699796 (Russia); Registration Number 1025003915243 (Russia) [RUSSIA-EO14024].

Designated pursuant to section 1(a)(i) of E.O. 14024 for operating or having operated in the technology sector of the Russian Federation economy.

Dated: August 3, 2023.
Bradley T. Smith,
Deputy Director, Office of Foreign Assets Control, U.S. Department of the Treasury.

[FR Doc. 2023-16934 Filed 8-7-23; 8:45 am]

BILLING CODE 4810-AL-P